DEPARTMENT OF COMMERCE

International Trade Administration

[A-570-088]

Certain Steel Racks and Parts Thereof From the People's Republic of China: Final Results of Antidumping Duty Administrative Review and Final Determination of No Shipments; 2020-2021

AGENCY: Enforcement and Compliance, International Trade Administration, Department of Commerce.

SUMMARY: The U.S. Department of Commerce (Commerce) determines that certain exporters under review sold subject merchandise at less than normal value during the period of review (POR), September 1, 2020, through August 31, 2021. Additionally, Commerce determines that Hebei Minmetals Co., Ltd. (Hebei Minmetals) and Xiamen Luckyroc Industry Co., Ltd., (Luckyroc) had no shipments of subject merchandise during the POR.

DATES: Applicable April 10, 2023.

FOR FURTHER INFORMATION CONTACT: Elizabeth Bremer or Jonathan Hill, AD/CVD Operations, Office IV, Enforcement and Compliance, International Trade Administration, U.S. Department of Commerce, 1401 Constitution Avenue NW, Washington, DC 20230; telephone: (202) 482-4987 and (202) 482-3518, respectively.

SUPPLEMENTARY INFORMATION:

Background

On October 6, 2022, Commerce published the Preliminary Results in the Federal Register and invited interested parties to comment on those results.¹ On January 26, 2023, Commerce extended the deadline to issue the final results of this review by 60 days until April 4, 2023.² For details regarding the events that occurred subsequent to publication of the Preliminary Results, see the Issues and Decision Memorandum.³ Commerce conducted this administrative review in accordance with section 751 of the Tariff Act of 1930, as amended (the Act).

¹ See Certain Steel Racks and Parts Thereof from the People's Republic of China: Preliminary Results of the Antidumping Duty Administrative Review and Preliminary Determination of No Shipments; 2020-2021, 87 FR 60647 (October 6, 2022) (Preliminary Results), and accompanying Preliminary Decision Memorandum (PDM).

² See Memorandum, “Extension of Deadline for Final Results of the 2020-2021 Antidumping Duty Administrative Review,” dated January 26, 2023.

³ See Memorandum, “Issues and Decision Memorandum for the Final Results of the 2020-2021 Antidumping Duty Administrative Review of Certain Steel Racks and Parts Thereof from the People's Republic of China,” (Issues and Decision Memorandum), dated concurrently with, and hereby adopted by, this notice.

Scope of the Order ⁴

⁴ See Certain Steel Racks and Parts Thereof from the People's Republic of China: Amended Final Affirmative Antidumping Duty Determination and Antidumping Duty Order; and Countervailing Duty Order, 84 FR 48584 (September 16, 2019) (Order).

The merchandise covered by the Order is steel racks and parts thereof, assembled, to any extent, or unassembled, including but not limited to, vertical components (e.g., uprights, posts, or columns), horizontal or diagonal components (e.g., arms or beams), braces, frames, locking devices (e.g., end plates and beam connectors), and accessories (including, but not limited to, rails, skid channels, skid rails, drum/coil beds, fork clearance bars, pallet supports, row spacers, and wall ties).

Merchandise covered by the Order is classified in the Harmonized Tariff Schedule of the United States (HTSUS) under subheadings 7326.90.8688, 9403.20.0081, 9403.90.8041, and 9403.99.9041.⁵ Subject merchandise may also be classified under subheadings 7308.90.3000, 7308.90.6000, 7308.90.9590, and 9403.20.0090. The HTSUS subheadings are provided for convenience and U.S. customs purposes only. The written description of the scope is dispositive.

⁵ On February 9, 2022, Commerce received a request from U.S. Customs and Border Protection (CBP) to update the ACE Case Reference File (CRF) for this proceeding. Specifically, CBP requested that Commerce add HTSUS number 9403.99.9041 to the CRF to reflect 2022 updates to the HTSUS. On May 4, 2022, Commerce added HTSUS number 9403.99.9041 to the CRF for this proceeding (A-570-088). See Memorandum, “Request from Customs and Border Protection to Update the ACE AD/CVD Case Reference File: Certain Steel Racks and Parts Thereof from the People's Republic of China (A-570-088, C-570-089),” dated May 4, 2022.

A full description of the scope of the Order is contained in the Issues Decision Memorandum.

Analysis of Comments Received

We addressed all the issues raised in the case and rebuttal briefs in the Issues and Decision Memorandum. A list of the issues that parties raised, and to which we responded in the Issues and Decision Memorandum, is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on a review of the record and comments received from interested parties regarding the Preliminary Results, we selected Romania, rather than Bulgaria, as the primary surrogate country and corrected certain ministerial errors in our preliminary dumping margin calculations.⁶

⁶ See Issues and Decision Memorandum.

Final Determination of No Shipments

In the Preliminary Results, Commerce determined that Hebei and Luckyroc did not export or sell subject merchandise, nor did they have knowledge that their subject merchandise was entered into the United States, during the POR.⁷ Interested parties commented on Hebei's, but not Luckyroc's, no-shipments claim.⁸ On November 14, 2022, we requested additional information from Hebei regarding its no-shipments claim.⁹ After considering interested parties' comments and record evidence, Commerce continues to determine that Hebei and Luckyroc did not export, sell, or have knowledge of U.S. entries of subject merchandise during the POR.

⁷ See Preliminary Results PDM at 7-8.

⁸ See Coalition for Fair Rack Imports' Letter, “Comments on Commerce's No-Shipments Analysis for Hebei Minmetals Co., Ltd.,” dated October 21, 2022.

⁹ See Commerce's Letter, “Supplemental questionnaire,” dated November 14, 2022.

Separate Rates

No parties commented on Commerce's preliminary separate rate determinations.¹⁰ Because there is no basis to change the preliminary separate rate determinations, Commerce has continued to grant Nanjing Dongsheng Shelf Manufacturing Co., Ltd. (Dongsheng), Nanjing Ironstone Storage Equipment Co., Ltd. (Ironstone), and Nanjing Kingmore Logistics Equipment Manufacturing Co., Ltd. (Kingmore), separate rate status. Additionally, Commerce has continued to deny separate rate status to each company listed in Appendix II.

¹⁰ See Preliminary Results PDM at 12-13.

Rate for Non-Examined Separate Rate Respondents

The statue and Commerce's regulations do not address what rate to apply to respondents not selected for individual examination when Commerce limits its examination in an administrative review pursuant to section 777A(c)(2) of the Act. Generally, Commerce looks to section 735(c)(5) of the Act, which provides instructions for calculating the all-others rate in an investigation, for guidance when calculating the rate for non-selected respondents that are not examined individually in an administrative review.

Section 735(c)(5)(A) of the Act states that the all-others rate should be calculated by averaging the weighted-average dumping margins determined for individually-examined respondents, excluding rates that are zero, de minimis, or based entirely on facts available. When the rates determined for individually examined respondents are all zero, de minimis, or based entirely on facts available, section 735(c(5)(B) of the Act provides that Commerce may use “any reasonable method” to establish the all-others rate.

The final weighted-average dumping margins that we calculated for the mandatory respondents Dongsheng and Ironstone are not zero, de minimis, or based entirely on facts available. Therefore, we assigned a weighted-average dumping margin to the non-individually examined respondent to which we granted separate rate status equal to the weighted average, based on the publicly ranged value of sales by Dongsheng and Ironstone, of the weighted-average dumping margins that we calculated for Dongsheng and Ironstone, consistent with the guidance in section 735(c)(5)(A) of the Act.¹¹

¹¹ See Memorandum, “Final Calculation of the Rate for the Separate Rate Respondent,” dated concurrently with this notice.

Final Results of Review

We are assigning the following weighted-average dumping margins to the companies listed below for the period September 1, 2020, through August 31, 2021:

Exporter | Weighted-average dumping margins (percent)
Nanjing Dongsheng Shelf Manufacturing Co., Ltd | 13.88
Nanjing Ironstone Storage Equipment Co., Ltd | 3.13
Review-Specific Rate Applicable to the Non-Examined Company
Nanjing Kingmore Logistics Equipment Manufacturing Co., Ltd | 10.18

Disclosure

Commerce intends to disclose to parties to the proceeding the calculations performed for these final results of review within five days of the date of publication of this notice in the Federal Register in accordance with 19 CFR 351.224(b).

Assessment Rates

Pursuant to section 751(a)(2)(C) of the Act and 19 CFR 351.212(b), Commerce will determine, and U.S. Customs and Border Protection (CBP) shall assess, antidumping duties on all appropriate entries of subject merchandise covered by the final results of this review. Commerce intends to issue assessment instructions to CBP no earlier than 35 days after the date of publication date of the final results of this review in the Federal Register. If a timely summons is filed at the U.S. Court of International Trade, the assessment instructions will direct CBP not to liquidate relevant entries until the time for parties to file a request for a statutory injunction has expired (i.e., within 90 days of publication).

For the individually examined respondents whose weighted-average dumping margin is not zero or de minimis, we calculated importer-specific assessment rates in accordance with 19 CFR 351.212(b)(1).¹² Where the respondent reported reliable entered values, we calculated importer-specific ad valorem assessment rates by dividing the total amount of dumping calculated for all reviewed U.S. sales to the importer by the total entered value of the merchandise sold to the importer.¹³ Where the respondent did not report entered values, we calculated importer-specific per-unit assessment rates by dividing the total amount of dumping calculated for all reviewed U.S. sales to the importer by the total quantity of those sales. We also calculated an estimated ad valorem importer-specific assessment rate to determine whether the per-unit assessment rate is de minimis (i.e., 0.50 percent or less).¹⁴

¹² We applied the assessment rate calculation method adopted in Antidumping Proceedings: Calculation of the Weighted-Average Dumping Margin and Assessment Rate in Certain Antidumping Proceedings: Final Modification, 77 FR 8101 (February 14, 2012).

¹³ See 19 CFR 351.212(b)(1).

¹⁴ Id.

Where an importer-specific ad valorem assessment rate is not zero or de minimis, Commerce will instruct CBP to collect the appropriate duties at the time of liquidation. Where either the respondent's ad valorem weighted average dumping margin, or an importer-specific ad valorem assessment rate, is zero or de minimis, Commerce will instruct CBP to liquidate the appropriate entries without regard to antidumping duties.

Where sales of subject merchandise exported by an individually examined respondent were not reported in the U.S. sales data submitted by the respondent, but the merchandise was entered into the United States during the POR under the CBP case number of the respondent, Commerce will instruct CBP to liquidate any entries of such merchandise at the weighted-average dumping margin for the China-wide entity (i.e., 144.50 percent).¹⁵ Additionally, where Commerce determines that an exporter under review made no shipments of subject merchandise during the POR, Commerce will instruct CBP to liquidate any suspended entries of subject merchandise that entered under that exporter's CBP case number during the POR at the weighted-average dumping margin for the China-wide entity.

¹⁵ See Order.

The antidumping duty assessment rate for Kingmore, the company not individually examined in this administrative review that qualified for a separate rate, will be equal to the weighted-average dumping margin listed for Kingmore in the table above.

For companies not eligible for a separate rate which Commerce considered to be part of the China-wide entity, the assessment rate will be equal to the weighted-average dumping margin for the China-wide entity, i.e., 144.50 percent.

Cash Deposit Requirements

The following cash deposit requirements will be in effect for all shipments of subject merchandise entered, or withdrawn from warehouse, for consumption on, or after, the date of publication of this notice in the Federal Register, as provided for by section 751(a)(2)(C) of the Act: (1) for an exporter granted a separate rate in the final results of this review, the cash deposit rate will be equal to the weighted-average dumping margin listed for the company in the table above; (2) for a previously investigated or reviewed exporter of subject merchandise not listed in the table above that has a separate rate, the cash deposit rate will continue to be the exporter's existing cash deposit rate; (3) for all China exporters of subject merchandise that do not have a separate rate, the cash deposit rate will be equal to the weighted-average dumping margin assigned to the China-wide entity, which is 144.50 percent; and (4) for a non-China exporter of subject merchandise that does not have a separate rate, the cash deposit rate will be equal to the weighted-average dumping margin applicable to the China exporter that supplied that non-China exporter.

These cash deposit requirements, when imposed, shall remain in effect until further notice.

Notification to Importers Regarding the Reimbursement of Duties

This notice also serves as a final reminder to importers of their responsibility under 19 CFR 351.402(f) to file a certificate regarding the reimbursement of antidumping and/or countervailing duties prior to liquidation of the relevant entries during the POR. Failure to comply with this requirement could result in Commerce's presumption that reimbursement of antidumping and/or countervailing duties occurred and the subsequent assessment of double antidumping duties.

Administrative Protective Order (APO)

This notice also serves as a reminder to parties subject to APO of their responsibility concerning the return or destruction of proprietary information disclosed under APO in accordance with 19 CFR 351.305, which continues to govern business proprietary information in this segment of the proceeding. Timely written notification of the return or destruction of APO materials, or conversion to judicial protective order, is hereby requested. Failure to comply with the regulations and terms of an APO is a violation which is subject to sanction.

Notification to Interested Parties

We are issuing these final results of administrative review and publishing this notice in accordance with sections 751(a)(1) and 777(i) of the Act and 19 CFR 351.213(h)(2) and 351.221(b)(5).

Dated: April 4, 2023.
Abdelali Elouaradia,
Deputy Assistant Secretary for Enforcement and Compliance.

Appendix I

List of Topics Discussed in the Issues and Decision Memorandum

I. Summary

II. Background

III. Scope of the Order

IV. Changes Since the Preliminary Results

V. Discussion of Issues

Comment 1: Whether Commerce Selected the Appropriate Surrogate Country

Comment 2: Whether to Treat Hebei Minmetals Co. Ltd. as Part of the China-Wide Entity

Comment 3: Whether Commerce Should Calculate Surrogate Financial Ratios Using Korado's 2020 and 2021 Financial Statements or 2021 Financial Statements

Comment 4: How to Treat Income from the Sale of Materials in the Surrogate Financial Ratio Calculations

Comment 5: Whether Commerce Should Use Balkancar's Financial Statements to Calculate Surrogate Financial Ratios

Comment 6: Whether Commerce Erred When Calculating the Net Price of Ironstone's U.S. Sales

Comment 7: Whether Commerce Erred in its Calculations When Accounting for Packing Labor

VI. Recommendation

Appendix II

Companies Determined To Not Be Eligible for a Separate Rate

1. Ateel Display Industries (Xiamen) Co., Ltd.

2. CTC Universal (Zhangzhou) Industrial Co., Ltd.

3. David Metal Craft Manufactory Ltd.

4. Fujian Ever Glory Fixtures Co., Ltd.

5. Guangdong Wireking Housewares and Hardware Co., Ltd.

6. Hebei Wuxin Garden Products Co., Ltd.

7. Huanghua Xinxing Furniture Co., Ltd.

8. i-Lift Equipment Ltd.

9. Johnson (Suzhou) Metal Products Co., Ltd.

10. Master Trust (Xiamen) Import and Export Co., Ltd.

11. Ningbo Xinguang Rack Co., Ltd.

12. Redman Corporation

13. Redman Import & Export Limited

14. Suzhou (China) Sunshine Hardware & Equipment Imp. & Exp. Co. Ltd.

15. Tianjin Master Logistics Equipment Co., Ltd.

16. Xiamen Baihuide Manufacturing Co., Ltd.

17. Xiamen Ever Glory Fixtures Co., Ltd.

18. Xiamen Golden Trust Industry & Trade Co., Ltd.

19. Xiamen Kingfull Imp and Exp Co., Ltd. (d.b.a) Xiamen Kingfull Displays Co., Ltd.

20. Xiamen LianHong Industry and Trade Co., Ltd.

21. Xiamen Luckyroc Storage Equipment Manufacture Co., Ltd.

22. Xiamen Meitoushan Metal Products Co., Ltd.

23. Xiamen Power Metal Display Co., Ltd.

24. Xiamen XinHuiYuan Industrial & Trade Co., Ltd.

25. Xiamen Yiree Display Fixtures Co., Ltd.

26. Zhangjiagang Better Display Co., Ltd.

[FR Doc. 2023-07476 Filed 4-7-23; 8:45 am]

BILLING CODE 3510-DS-P